DEPARTMENT OF DEFENSE

48 CFR Part 219

[DFARS Case 2001-D009]

Defense Federal Acquisition Regulation Supplement; Memorandum of Understanding—Section 8(a) Program

AGENCY: Department of Defense (DoD).

ACTION: Final rule.

SUMMARY: DoD has issued a final rule amending the Defense Federal Acquisition Regulation Supplement (DFARS) to reflect an extension in the expiration date of a memorandum of understanding between DoD and the Small Business Administration (SBA). The memorandum of understanding permits DoD to award contracts directly to 8(a) Program participants instead of awarding the contracts through the SBA.

EFFECTIVE DATE: October 1, 2001.

FOR FURTHER INFORMATION CONTACT: Ms. Angelena Moy, Defense Acquisition Regulations Council, OUSD (AT&L) DP (DAR), IMD 3C132, 3062 Defense Pentagon, Washington, DC 20301-3062. Telephone (703) 602-1302; facsimile (703) 602-0350. Please cite DFARS Case 2001-D009.

SUPPLEMENTARY INFORMATION:

A. Background

A memorandum of understanding dated May 6, 1998, between DoD and SBA permits DoD to award contracts directly to eligible 8(a) Program participants, instead of awarding the contracts through the SBA as provided for in Subpart 19.8 of the Federal Acquisition Regulation. The expiration date of the memorandum of understanding has been extended to December 31, 2001. This final rule amends DFARS 219.800 to reflect the extension.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2001-D009.

C. Paperwork Reduction Act

The Paperwork Reduction Act does not apply because the rule does not impose any information collection requirements that require the approval of the Office of Management and Budget under 44 U.S.C. 3501, et seq.

List of Subjects in 48 CFR Part 219

Government procurement.

Michele P. Peterson,
Executive Editor, Defense Acquisition Regulations Council.

Therefore, 48 CFR part 219 is amended as follows:

1. The authority citation for 48 CFR part 219 continues to read as follows:

Authority: 41 U.S.C. 421 and 48 CFR Chapter 1.

PART 219—SMALL BUSINESS PROGRAMS

219.800 [Amended]

2. Section 219.800 is amended in paragraph (a) in the third sentence by removing “May 5” and adding in its place “December 31”.

[FR Doc. 01-24389 Filed 9-28-01; 8:45 am]

BILLING CODE 5000-04-M